ENVIRONMENTAL PROTECTION AGENCY

[FRL-6949-5]

Notice of Request for Proposals for Projects to be Funded from the Water Quality Cooperative Agreement Allocation

AGENCY: Environmental Protection Agency (EPA).

ACTION: Notice.

SUMMARY: EPA Region 4 (Atlanta) is soliciting proposals from state water pollution control agencies, interstate agencies, tribes, and other public or nonprofit private agencies, institutions and organizations interested in applying for Federal assistance for Water Quality Cooperative Agreements under the Clean Water Act section 104(b)(3) in the states of Alabama, Florida, Georgia, Kentucky, Mississippi, North Carolina, South Carolina and Tennessee. EPA Region 4 will award an estimated $300,000 to eligible applicants through assistance agreements ranging in size from $25,000 to $150,000 for innovative projects/demonstrations/studies that have maximum transferability or can be used as models relating to the prevention, reduction, and elimination of water pollution. Priority will be given to proposals that relate to Total Maximum Daily Load (TMDL) activities which support the development of TMDLs. TMDL support includes the rotating basin approach and water quality monitoring.

DATES: EPA Region 4 will consider all proposals postmarked or received on or before 5 p.m. Eastern Time April 23, 2001. Proposals received after this date will not be accepted.

ADDRESSES: It is preferred that three copies of the proposal be mailed through the postal service or other means to: Dorothy Rayfield, Chief, Grants & Technical Assistance Section, Water Management Division, U.S. Environmental Protection Agency, 61 Forsyth St., SW., Atlanta, Georgia 30303. Proposals may also be electronically mailed to rayfield.dorothy@epa.gov.

FOR FURTHER INFORMATION CONTACT: Dorothy Rayfield by telephone at 404-562-9278 or by E-mail at rayfield.dorothy@epa.gov.

SUPPLEMENTARY INFORMATION:

What is the Purpose of This Request for Proposals?

EPA Region 4, Water Management Division is requesting proposals from state water pollution control agencies, interstate agencies, tribes, and other public or nonprofit private agencies, institutions, and organizations under the Clean Water Act Section 104(b)(3) for unique and innovative projects.

An organization whose proposal is selected for Federal assistance must complete an EPA Application for Assistance, including the SF-424 form (Application for Federal Assistance, see 40 CFR 30.12 and 31.10).

Has EPA Region 4, Water Management Division Identified High Priority Areas for Consideration?

The Water Management Division, EPA Region 4 has identified project areas for priority consideration to the extent they are for proposals that are related to Total Maximum Daily Load (TMDL) activities which support the development of TMDLs. TMDL support includes the rotating basin approach and water quality monitoring. Further priority will be given to projects that are located within watersheds that have the following characteristics:

• Monitoring activities that support TMDL development on 303(d) listed waters.

• Modeling activities that support TMDL development on 303(d) listed waters.

• Other activities (e.g., watershed characterization, source identification, etc.) that support TMDL development on 303(d) listed waters

Additional consideration will be given to proposed projects that are consistent with the States's TMDL development schedules, with priority given to TMDL development processes, procedures or tools that can be transferred to other waters.

Statutory Authority, Applicable Regulations, and Funding Level

Funding is authorized under the provisions of the Clean Water Act section 104(b)(3), 33 U.S.C. 1254(b)(3).

The regulations governing the award and administration of Water Quality Cooperative Agreements are 40 CFR part 30 (for institutions of higher learning, hospitals, and other non-profit organizations) and 40 CFR part 31 (for States, Tribes, local governments, intertribal consortia, and interstate agencies). In addition, EPA expects to promulgate final rules in the near future that will include program specific regulations for Water Quality Cooperative Agreements to States, Tribes, local governments, interstate agencies and Intertribal consortia. When the rules are finalized, they will be codified at 40 CFR part 35, subparts A and B.

Total funding available for award will depend on EPA Region 4's appropriation for Fiscal Year 2001; however, it is estimated that $300,000 will be available for funding approved projects. Projects may range in size from $25,000 to $150,000.

Proposal Format and Contents

(A) The following format should be used for all proposals.

Name of Project:

Applicant Point of Contact: (Individual and Organization Name, Address, Phone Number, Fax Number, E-mail address)

Is this a Continuation of a Previously Funded Project? (If so, please provide its name, funding date, and expected final product with the date)

Proposed Award Amount:

Proposed Applicant Cost Share: (A 5% match is encouraged)

Expected Budget: Please include a budget by salary, fringe benefits, travel, supplies, equipment, contractual and indirect costs and a budget by activity, such as water monitoring, modeling, watershed characterization, best management practices, etc. Identify all sources of funding.

Project Description: (Should not exceed two (2) pages of single spaced text)

Expected Accomplishments or Products(s) with Dates and Interim Milestones: Since eligible activities must be of a relatively short time frame with tangible results, the project and budget period should not exceed two (2) years.

Describe How the Project Meets the Evaluation Criteria: EPA will consider proposals based on the following criteria:

• The relationship of the proposed project to the priorities identified in this notice

• How well the project proposes to address a need

• How well the project is likely to increase water quality protection

• How reasonable the expectation of being successful and implementable

• Soundness of technical content

• Applicant's financial commitment

• Compliance with direction for submittal contained in this notice.

Eligible Applicants

Eligible applicants for assistance agreements under Section 104(b)(3) of the Clean Water Act are state water pollution control agencies, tribes, interstate agencies, other public or nonprofit private agencies, institutions, and organizations. This solicitation is limited to applicants within EPA Region 4.

Application Procedure

Please send three copies of the proposal if it is not electronically transmitted. The completed proposals should be limited to three pages. Full application packages should not be submitted at this time.

Schedule of Activities

This is the estimated schedule of activities for review of proposals and notification of selections:

Proposals due to EPA by April 23, 2001.

June 5, 2001—Initial approvals identified and sponsors of projects selected for funding will be requested to submit a formal application package.

A. Stanley Meiburg,
Acting Regional Administrator, Region 4.

[FR Doc. 01-5573 Filed 3-6-01; 8:45 am]

BILLING CODE 6560-50-P